DEPARTMENT OF ENERGY

Federal Energy Regulatory Commission

Notice of Hydro Licensing Status Workshop 2003

October 16, 2003.

In the matter of: AD04-1-000; 2069-003; 2306-008; 2205-006, 11475-000 and 11478-000; 176-018; 2964-006; 2474-004, 2539-003; 2283-005, 2612-005, and 2721-013; 2634-007; 1975-014, 2055-010, 2061-004, 2777-007, and 2778-005; 1927-008, 2342-005, and 2659-011; 2493-006; 11472-000 and 11566-003; 372-008 and 2017-011: Hydro Licensing Status Workshop 2003, Arizona Public Service Company, Citizens Utilities Company, Central Vermont Public Service Corporation, City of Escondido, California, City of Sturgis, Michigan, Erie Boulevard Hydropower, L.P., FPL Energy Maine, LLC, Great Lakes Hydro American, L.L.C., Idaho Power Company, PacifiCorp, Puget Sound Energy, Inc., Ridgewood Maine Hydro Partners, L.P., Southern California Edison Company

A one-day, Commissioner-led workshop will be held on Thursday, December 11, 2003, beginning at 10:00 a.m., in the Commission Meeting Room at the Federal Energy Regulatory Commission, 888 First Street, NE, Washington, DC. The workshop will focus on the above-listed 26 pending license applications filed at the Commission. The workshop is open to the public and all interested persons are invited to attend and participate.

The goals of the workshop are to: (1) Review and discuss the pending license applications; (2) identify unresolved issues; (3) determine next steps; (4) agree on who will take the next step; and (5) focus on solutions. The workshop will concentrate on identifying the unresolved issues associated with each project, and determining the best course of action to resolve or remove obstacles to final action on each pending license application.

A transcript of the discussions will be placed in the public record for Docket No. AD04-1-000 and in the record for each of the pending license applications.

Filing Requirements for Paper and Electronic Filings

Comments, papers, or other documents related to this proceeding may be filed in paper format or electronically. Those filing electronically do not need to make a paper filing.

For paper filings, the original and 8 copies of the comments should be submitted to the Office of the Secretary, Federal Energy Regulatory Commission, 888 First Street, NE., Washington, DC 20426. Paper filings should, at the top of the first page, refer to Docket No. AD04-1-000 and reference the specific project name(s) and project number(s) that the comments concern. The deadline to file comments is January 10, 2004.

Comments may be filed electronically via the Internet in lieu of paper. The Commission strongly encourages electronic filings. Documents filed electronically via the Internet must be prepared in WordPerfect, MS Word, Portable Document Format, or ASCII format. To file the document, access the Commission's Web site at www.ferc.gov, click on “e-Filing” and then follow the instructions on the screen. First-time users will have to establish a user name and password. The Commission will send an automatic acknowledgment to the sender's e-mail address upon receipt of comments. User assistance for electronic filing is available at 202-502-8258 or by e-mail to efiling@ferc.gov. Comments should not be submitted to the e-mail address.

All comments will be placed in the Commission's public files and will be available for inspection in the Commission's Public Reference Room at 888 First Street, NE., Washington DC 20426, during regular business hours. Additionally, all comments may be viewed on the Commission's Web site at www.ferc.gov using the “eLibrary” link. For assistance, call toll free 1-866-208-3676, or for TTY 202-502-8659, or by e-mail to FERCONLINESUPPORT@ferc.gov.

Opportunities for Listening, Participating, and Viewing the Workshop Offsite and Obtaining a Transcript

The workshop will be transcribed. Those interested in transcripts immediately for a fee should contact Ace-Federal Reporters, Inc. at 202-347-3700, or 1-800-336-6646. Transcripts will be available free to the public on the Commission's e-library system two weeks after the workshop.

The Capitol Connection offers the opportunity for remote listening and viewing of the conference. It is available for a fee, live over the Internet, by phone or via satellite. Persons interested in receiving the broadcast, or who need information on making arrangements should contact David Reininger or Julia Morelli at the Capitol Connection (703-993-3100) as soon as possible or visit the Capitol Connection Web site at http://www.capitolconnection.org and click on “FERC”.

Anyone wishing to participate via teleconference should call or e-mail Susan Tseng 202-502-6065 or susan.tseng@ferc.gov, by December 4, 2003, to receive the toll free telephone number to join the teleconference.

Anyone interested in participating in the workshop via video teleconference from one of the Commission's regional offices should call or e-mail the following staff, by December 4, 2003, to make arrangements. Seating capacity is limited.

Regional office | Staff contact | Telephone No. | E-mail address
Atlanta | Charles Wagner | 770-452-3765 | charles.wagner@ferc.gov
Chicago | John Hawk | 312-596-4437 | john.hawk@ferc.gov
New York | Chuck Goggins | 212-273-5910 | charles.goggins@ferc.gov
Portland | Pat Regan | 503-552-2741 | patrick.regan@ferc.gov
San Francisco | John Wiegel | 415-369-3336 | john.wiegel@ferc.gov

By December 1, 2003, an agenda for the workshop and information about the pending license applications will be posted on the Commission's web site under Hydro Licensing Status Workshop 2003. Anyone without access to the Commission's Web site, or who has questions should contact Mark Pawlowski at 202-502-6052, or e-mail mark.pawlowski@ferc.gov or Nick Jayjack at 202-502-6073, or e-mail nicholas.jayjack@ferc.gov. This meeting is posted on the Commission's calendar located at http://www.ferc.gov/EventCalendar/EventsList.aspx along with other related information.

Magalie R. Salas,
Secretary.

[FR Doc. E3-00107 Filed 10-23-03; 8:45 am]

BILLING CODE 6717-01-P